DEPARTMENT OF HEALTH AND HUMAN SERVICES

Centers for Disease Control and Prevention

[60Day-08-08BN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Voluntary Product Satisfaction and Usability Assessment—New—National Center for Injury Prevention and Control (NCIPC), Centers for Disease Control and Prevention (CDC).

Background and Brief Description

Executive Order 12862 directs Federal agencies that provide services directly to the public to survey customers to determine the kind and quality of services they need and their level of satisfaction with existing services.

CDC releases a number of new products each year to its customers, a diverse group that includes health care providers, researchers, public health practitioners, policymakers, and the general public. The term product is broadly defined to include publications, Web pages, podcasts, e-cards, CD-ROMs, and videos. At present, there is no mechanism for evaluating whether these products are meeting customer needs.

CDC is requesting a 3-year generic clearance in order to better evaluate its products. Obtaining feedback from customers on a regular, on-going basis will help ensure that customers find CDC products to be useful. This type of evaluation will allow CDC to maximize the impact of its products which will ultimately benefit the public's health.

Methodology

The target audience will be limited to customers who request and receive CDC products. Customer participation in the evaluation is completely voluntary. Names of customers will not be collected. The only personal information collected will relate to professional discipline, job duties, and experience working with public health topics. No sensitive data (e.g., age, race, or gender) will be collected. The evaluation data will be collected using a combination of methodologies including:

1. Response cards via mail: Each product that is sent out will include a one page response card along with a self-addressed and stamped envelope. Customers can then voluntarily choose whether to return the response card.

2. E-mail announcements: Products are released to customers via an e-mail announcement that includes a link to the electronic version of the product plus a link to a Web-based evaluation. Customers can then voluntarily choose whether to complete the evaluation.

3. Web-based assessments: Products are available on-line in an electronic format. Each product Web page will include a link to a Web-based evaluation. Customers can then voluntarily choose whether to complete the evaluation.

The information being collected will not impose a cost burden on the respondents beyond that associated with their time to provide the required data.

Estimated Annualized Burden Hours
Evaluation method | Number of respondents | Number of responses per respondent | Average burden per response (in hours) | Total burden (in hours)
Response cards | 50,000 | 1 | 10/60 | 8,333
E-mail Assessments | 60,000 | 1 | 10/60 | 10,000
Web-Based Assessments | 432,000 | 1 | 10/60 | 72,000
Total | 542,000 |  |  | 90,333

Dated: August 18, 2008.
Maryam I. Daneshvar,
Acting Reports Clearance Officer, Centers for Disease Control and Prevention.

[FR Doc. E8-19729 Filed 8-25-08; 8:45 am]

BILLING CODE 4163-18-P